PENSION BENEFIT GUARANTY CORPORATION

Submission of Information Collection for OMB Review; Comment Request; Locating and Paying Participants

AGENCY: Pension Benefit Guaranty Corporation.

ACTION: Notice of request for extension of OMB approval of an information collection.

SUMMARY: The Pension Benefit Guaranty Corporation (PBGC) is requesting that the Office of Management and Budget (OMB) extend approval of a collection of information (OMB Control Number 1212-0055; expires August 31, 2024) under the Paperwork Reduction Act. The purpose of the information collection is to enable PBGC to pay benefits to participants and beneficiaries. This notice informs the public of PBGC's request and solicits public comment on the collection.

DATES: Comments must be received on or before June 20, 2024 to be assured of consideration.

ADDRESSES: Written comments and recommendations for the proposed information collection should be sent within 30 days of publication of this notice to www.reginfo.gov/public/do/PRAMain. Find this particular information collection by selecting “Currently under 30-day Review—Open for Public Comments” or by using the search function.

All comments received will be posted without change to PBGC's website, www.pbgc.gov, including any personal information provided. Do not submit comments that include any personally identifiable information or confidential business information.

A copy of the request will be posted on PBGC's website at www.pbgc.gov/prac/laws-and-regulation/federal-register-notices-open-for-comment. It may also be obtained without charge by writing to the Disclosure Division (disclosure@pbgc.gov), Office of the General Counsel of PBGC, 445 12th Street SW, Washington, DC 20024-2101; or, calling 202-229-4040 during normal business hours. If you are deaf or hard of hearing or have a speech disability, please dial 7-1-1 to access telecommunications relay services.

FOR FURTHER INFORMATION CONTACT: Monica O'Donnell (odonnell.monica@pbgc.gov), Attorney, Regulatory Affairs Division, Office of the General Counsel, Pension Benefit Guaranty Corporation, 445 12th Street SW, Washington, DC 20024-2101; 202-229-8706; or Gregory Katz (katz.gregory@pbgc.gov), Attorney, Regulatory Affairs Division, Office of the General Counsel, Pension Benefit Guaranty Corporation, 445 12th Street SW, Washington, DC 20024-2101; 202-229-3829. If you are deaf or hard of hearing or have a speech disability, please dial 7-1-1 to access telecommunications relay services.

SUPPLEMENTARY INFORMATION: This information collection is needed to pay participants and beneficiaries who may be entitled to pension benefits from plans that have terminated. Participants and beneficiaries are asked to provide information in connection with an application for benefits. This includes requests to individuals to provide identifying information so that PBGC may determine whether the individuals are entitled to benefits. All requested information is needed so that PBGC may determine benefit entitlements and make appropriate payments.

This information collection includes My Pension Benefit Account (MyPBA), an application on PBGC's website, www.pbgc.gov, through which plan participants and beneficiaries may conduct electronic transactions with PBGC, including applying for pension benefits, designating a beneficiary, changing contact information, and applying for or changing electronic direct deposit.

PBGC is proposing the addition of two new forms: Form 713RBD, and Form 714RBD. Form 713RBD and Form 714RBD relate to elections to withdraw employee contributions for participants and beneficiaries who are at or beyond their Required Beginning Dates. PBGC is proposing to remove Form 718, “Installment Payment Agreement,” because PBGC no longer administers installment agreements for benefit overpayments. PBGC is proposing to remove Form 719 for electing or changing tax withholding from annuity benefit payments since participants are using Internal Revenue Service (IRS) Form W-4P, “Withholding Certificate for Periodic Pension or Annuity Payments.” PBGC is also making other clarifying, editorial, and formatting changes.

The existing collection of information was approved through August 31, 2024, under OMB control number 1212-0055. On February 8, 2024, PBGC published in the Federal Register (at 89 FR 8725) a notice informing the public of its intent to request an extension of this collection of information. No comments were received. PBGC is requesting that OMB extend its approval (with modifications) for three years. An agency may not conduct or sponsor, and a person is not required to respond to, a collection of information unless it displays a currently valid OMB control number.

PBGC estimates that it will receive a combined 136,081 benefit applications and information forms annually. The total annual burden associated with this collection of information is estimated to be 101,703 hours and an estimated $60,742 (the estimated cost of notary services for signatures (including spousal consents) required on applicable forms).

Issued in Washington, DC.
Gregory Katz,
Deputy Assistant General Counsel for Regulatory Affairs, Pension Benefit Guaranty Corporation.

[FR Doc. 2024-10969 Filed 5-17-24; 8:45 am]

BILLING CODE 7709-02-P